COMMISSION ON CIVIL RIGHTS

Agenda and Notice of Public Meeting of the New Mexico Advisory Committee

AGENCY: Commission on Civil Rights.

ACTION: Announcement of meeting.

SUMMARY: Notice is hereby given, pursuant to the provisions of the rules and regulations of the U.S. Commission on Civil Rights (Commission), and the Federal Advisory Committee Act (FACA), that a briefing meeting of the New Mexico Advisory Committee to the Commission will convene at 10:00 a.m. (MDT) on Friday, June 24, 2016, at the Main Library, 501 Copper Avenue NW., Albuquerque, NM 87102. The purpose of the briefing meeting is to explore the topic of Elder Abuse. The Briefing topics will include elder care services, non or limited access to care that may be impacted by finances, legal services, and structure of services. The New Mexico Advisory Committee will hear from individuals, advocacy groups, community organizations, and representatives of local, state, and Federal agencies. A planning meeting will convene at 6:00 p.m. (MDT) on Thursday, June 23, 2016, at a location that is TBD. The purpose of the planning meeting is for the committee to review the agenda and procedures of the next day briefing meeting. .

If other persons who plan to attend the meeting require other accommodations, please contact Evelyn Bohor at ebohor@usccr.gov at the Rocky Mountain Regional Office at least ten (10) working days before the scheduled date of the meeting.

Time will be set aside at the end of the briefing so that members of the public may address the Committee after the formal presentations have been completed. Persons interested in the issue are also invited to submit written comments; the comments must be received in the regional office by Monday, July 24. Written comments may be mailed to the Rocky Mountain Regional Office, U.S. Commission on Civil Rights, 1961 Stout Street, Suite 13-201, Denver, CO 80294, faxed to (303) 866-1050, or emailed to Evelyn Bohor at ebohor@usccr.gov. Persons who desire additional information may contact the Rocky Mountain Regional Office at (303) 866-1040.

Records and documents discussed during the meeting will be available for public viewing as they become available at https://database.faca.gov/committee/meetings.aspx?cid=264 and clicking on the “Meeting Details” and “Documents” links. Records generated from this meeting may also be inspected and reproduced at the Rocky Mountain Regional Office, as they become available, both before and after the meeting. Persons interested in the work of this advisory committee are advised to go to the Commission's Web site, www.usccr.gov, or to contact the Rocky Mountain Regional Office at the above phone number, email or street address.

AGENDA:

Welcome and Introductions

Sandra Rodriguez, Chair, New Mexico Advisory Commitee

Malee V. Craft, Regional Director, RMRO-USCCR, Denver, CO

Briefing

New Mexico Advisory Committee

Government Officials, Advocates, Experts

DATES: Friday, June 24, 2016 (MDT).

ADDRESSES: Main Library, 501 Copper Avenue NW., Albuquerque, NM 87102.

FOR FURTHER INFORMATION CONTACT: Malee Craft at mcraft@usccr.gov, or 303-866-1040

Dated: Thursday, June 2, 2016.
David Mussatt,
Chief, Regional Programs Unit.

[FR Doc. 2016-13508 Filed 6-7-16; 8:45 am]

BILLING CODE 6335-01-P